DEPARTMENT OF DEFENSE

Office of the Secretary of Defense

Renewal of the Armament Retooling and Manufacturing Support (ARMS) Executive Advisory Committee

ACTION: Notice.

SUMMARY: The ARMS Executive Advisory Committee (hereinafter referred to as ARMS EAC) has been renewed in consonance with the public interest, and in accordance with the provisions of Public Law 92-463, The “Federal Advisory Committee Act.” The ARMS EAC is authorized to be established in the Conference Report accompanying Pub.L. 102-484, the National Defense Authorization Act for Fiscal Year 1993. Section 193 of the Authorization Act directs the Secretary of the Army to carry out an ARMS initiative which encourages commercial firms to use government-owned-contractor-operated (GOCO) manufacturing facilities of the DoD for commercial purposes.

The ARMS EAC provides a communications forum whereby a distinguished group of both industry and government experts advise the Secretary of the Army concerning changing roles for GOCO Army ammunition plants. In studying the objectives of the ARMS initiative, the ARMS EAC reviews and makes recommendations regarding the Army plan for implementation. Specific tasks include: assessing government and industry expectations for the ARMS initiative; evaluating the incentives, e.g., marketing, use of facilities and equipment, loan guarantees, planning grants, environmental concerns, free trade zones, for utilizing the idle capacity at industrial facilities for the manufacturing of government and commercial products; reviewing existing laws, regulations, and policies as to adequacy and possible need for revision or expansion; and, gauging the Army's plans for plant utilization, disposal of excess plant equipment, and allowance for contingencies.

The ARMS EAC will continue to be comprised of approximately sixteen members, eight from the private sector and eight from government, who will be acknowledged experts and leaders in the diverse disciplines associated with industrial plant operations and processes. The common characteristic of the issues they will study is the management of change in the Army's ammunition industrial base. Consequently, the individuals selected to serve on the Committee will be accomplished in their ability to understand and manage change at the manufacturing level and have considerable experience in tooling processes to retain a viable ammunition production base alongside commercial ventures/products. Efforts will be made to ensure that the membership is well-balanced in terms of the functions to be performed and the interest groups represented.

FOR FURTHER INFORMATION CONTACT: Please contact Mr. Gary Eichorn, telephone: 309-782-4360 or Mr. John Kasper, telephone: 703-697-3055.

Dated: July 19, 2001.
L.M. Bynum,
Alternate OSD Federal Register Liaison Officer, Department of Defense.

[FR Doc. 01-18601 Filed 7-25-01; 8:45 am]

BILLING CODE 5001-08-M